ENVIRONMENTAL PROTECTION AGENCY

[FRL-9276-3]

A Method To Assess Climate-Relevant Decisions: Application in the Chesapeake Bay

AGENCY: Environmental Protection Agency (EPA).

ACTION: Notice of cancellation of peer-review panel workshop.

SUMMARY: The U.S. Environmental Protection Agency (EPA) is announcing the cancellation of a March 11, 2011 external peer review meeting of the draft document titled, “A Method to Assess Climate-Relevant Decisions: Application in the Chesapeake Bay” (EPA/600/R-10/096a), announced earlier (76 FR 4345, January 25, 2011). EPA has received the written reviews from the external peer review members as well as public comments received during the public comment period from August 31 to November 1, 2010 (announced in 75 FR 168, August 31, 2010). EPA has concluded that a public peer review meeting is not warranted as the comments from the peer reviewers and the public are not controversial or conflicting and can be readily accommodated. Consistent with EPA practices, we will post all of the peer reviewer's comments and those of the public along with EPA's responses when the final report is released publicly, within the next 120 days.

DATES: March 11, 2011. The peer review panel workshop scheduled to begin at 8:30 a.m. and end at 4 p.m. at the Navy League Building, 2300 Wilson Boulevard, Arlington, VA 22201, has been cancelled.

Dated: February 28, 2011.
Darrell A. Winner,
Acting Director, National Center for Environmental Assessment.

[FR Doc. 2011-5043 Filed 3-4-11; 8:45 am]

BILLING CODE 6560-50-P